DEPARTMENT OF LABOR

Employment and Training Administration

[TA-W-58,671]

Healthcare & Hospitality Products, Inc.; Sebastian Furniture Co. Division, Barling, AR; Notice of Termination of Investigation

Pursuant to section 221 of the Trade Act of 1974, as amended, an investigation was initiated on January 19, 2006 in response to a worker petition filed by a state agency representative on behalf of workers at Healthcare & Hospitality Products, Inc., Sebastian Furniture Division, Barling, Arkansas.

The petitioner has requested that the petition be withdrawn. Consequently, the investigation has been terminated.

Signed at Washington, DC, this 28th day of February, 2006.
Linda G. Poole,
Certifying Officer, Division of Trade Adjustment Assistance.

[FR Doc. E6-4127 Filed 3-21-06; 8:45 am]

BILLING CODE 4510-30-P